DEPARTMENT OF DEFENSE

Department of the Army

Availability for Non-Exclusive, Exclusive, or Partially Exclusive Licensing of U.S. Provisional Patent Application Concerning Development of a Biosensor for Anthrax Therapeutics and Diagnostics

AGENCY: Department of the Army, DoD.

ACTION: Notice

SUMMARY: In accordance with 37 CFR 404.6 and 404.7, announcement is made of the availability for licensing of the invention set forth in U.S. Provisional Patent Application Serial No. 60/653,230 entitled “Development of a Biosensor for Anthrax Therapeutics and Diagnostics, filed February 14, 2005. The United States Government, as represented by the Secretary of the Army, has rights in this invention.

ADDRESSES: Commander, U.S. Army Medical Research and Materiel Command, ATTN: Command Judge Advocate, MCMR-ZA-J, 504 Scott Street, Fort Detrick, Frederick, MD 21702-5012.

FOR FURTHER INFORMATION CONTACT: For patent issues, Ms. Elizabeth Arwine, Patent Attorney, (301) 619-7808. For licensing issues, Dr. Paul Mele, Office of Research & Technology Assessment, (301) 619-6664, both at telefax (301) 619-5034.

SUPPLEMENTARY INFORMATION: This biosensor can be used for several different purposes namely: (1) Study toxin protein-protein interactions; (2) Screen anthrax therapeutic molecules such as antibodies and small molecules; (3) As a diagnostic tool to detect anthrax toxins in blood or urine samples.

Brenda S. Bowen
Army Federal Register Liaison Officer.

[FR Doc. 05-12308 Filed 6-21-05; 8:45 am]

BILLING CODE 3710-08-M